DEPARTMENT OF HEALTH AND HUMAN SERVICES

Office of the Secretary

[Document Identifier: HHS-OS-0990—New-60D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit a new Information Collection Request (ICR), described below, to the Office of Management and Budget (OMB). Prior to submitting the ICR to OMB, OS seeks comments from the public regarding the burden estimate, below, or any other aspect of the ICR.

DATES: Comments on the ICR must be received on or before May 11, 2015.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-0990—New-60D for reference.

Information Collection Request Title: Privacy and Security Capacity Assessment of the Title X Network.

Abstract: The Office of the Assistant Secretary for Health Office of Population Affairs, (OPA) is requesting an approval by Office of Management and Budget (OMB) for a new information collection (Privacy and Security Capacity Assessment) which seeks to collect feedback from the Title X network regarding Title X grantees' and service sites' current privacy and security capabilities for health information exchange. This voluntary form will be administered at most annually and enable the Title X network to share important information to critically inform OPA's development of Family Planning Annual Report (FPAR 2.0), as well as identify any training assistance and inform guidance that OPA may offer in the future. OPA will solicit feedback from Title X agencies to advise our work on privacy and security, and proposes to make this data collection form available for up to 3 years so that OPA can accept feedback from the network regarding any changes or trends that might alter our approach to privacy and security as we proceed through the design and build process for the planned FPAR 2.0 data repository.

Likely Respondents: Title X Grantees, Sub recipients, and Service Sites.

Total Estimated Annualized Burden—Hours
Form name | Number of respondents | Number of responses per respondent | Average burden per response (in hours) | Total burden hours
Data Element Survey | 818 | 1 | 20/60 | 273
Total | 818 | 1 | 20/60 | 273

OPA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Terry S. Clark,
Deputy Information Collection Clearance Officer.

[FR Doc. 2015-05619 Filed 3-11-15; 8:45 am]

BILLING CODE 4150-28-P